DEPARTMENT OF TRANSPORTATION

Federal Aviation Administration

14 CFR Part 39

[Docket No. FAA-2007-27860; Directorate Identifier 2007-CE-034-AD]

RIN 2120-AA64

Airworthiness Directives; Allied Ag Cat Productions, Inc. (Type Certificate No. 1A16 Formerly Held by Schweizer Aircraft Corp.) G-164 Series Airplanes

AGENCY: Federal Aviation Administration (FAA), Department of Transportation (DOT).

ACTION: Notice of proposed rulemaking (NPRM).

SUMMARY: We propose to supersede Airworthiness Directive (AD) 82-07-04, which applies to certain Allied Ag Cat Productions, Inc. (Ag Cat) G-164 series airplanes. AD 82-07-04 currently requires you to modify the fuel shut-off valve control by installation of a new stop-plate. Since we issued AD 82-07-04, we have determined the need to add airplane models and serial numbers that were not previously included in the applicability. Consequently, this proposed AD would retain the actions of AD 82-07-04 and add airplane models and serial numbers to the applicability. We are proposing this AD to prevent turning the fuel shut-off valve clockwise past the “ON” position stop which, if not corrected, could allow the fuel valve to be rotated to an unplacarded “OFF” position. This condition could lead to reduced fuel flow and consequent loss of engine power.

DATES: We must receive comments on this proposed AD by July 16, 2007.

ADDRESSES: Use one of the following addresses to comment on this proposed AD:

• DOT Docket Web site: Go to http://dms.dot.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

For service information identified in this proposed AD, contact Allied Ag Cat Productions, Inc., 301 West Walnut Street, P.O. Box 482, Walnut Ridge, Arkansas 72479; telephone: (870) 866-2111.

FOR FURTHER INFORMATION CONTACT: Matt Wilbanks, Aerospace Engineer, FAA, Fort Worth Airplane Certification Office, 2601 Meacham Blvd., Fort Worth, Texas 76137; telephone: (817) 222-5051; fax: (817) 222-5960.

SUPPLEMENTARY INFORMATION:

Comments Invited

We invite you to send any written relevant data, views, or arguments regarding this proposed AD. Send your comments to an address listed under the ADDRESSES section. Include the docket number, “FAA-2007-27860; Directorate Identifier 2007-CE-034-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

A determination that the fuel shut-off valve handle could be rotated clockwise past the “ON” position stop to an unplacarded “OFF” position on certain Ag Cat G-164 series airplanes caused us to issue AD 82-07-04, Amendment 39-4355 (47 FR 13788, April 1, 1982). AD 82-07-04 currently requires you to modify the fuel shut-off valve control by installation of a new stop-plate on certain Ag Cat G-164 series airplanes.

Since issuing AD 82-07-04, we have determined the need to add airplane models and serial numbers that were not previously included in the applicability.

This condition, if not corrected, could lead to reduced fuel flow and consequent loss of engine power.

Relevant Service Information

We have reviewed Schweizer Aircraft Corp. Ag-Cat Service Bulletin No. 78, dated January 26, 1982.

The service information describes procedures for modification of the fuel shut-off control by installation of a part number A1552-71 stop-plate.

FAA's Determination and Requirements of the Proposed AD

We are proposing this AD because we evaluated all information and determined the unsafe condition described previously is likely to exist or develop on other products of the same type design. This proposed AD would supersede AD 82-07-04 with a new AD that would retain the actions of AD 82-07-04 and add models and serial numbers to the applicability. This proposed AD would require you to use the service information described previously to perform these actions.

Differences Between This Proposed AD and the Service Information

This proposed AD affects additional models and serial numbers airplanes compared to the list in the applicability section of the service information. The requirements of this proposed AD, if adopted as a final rule, would take precedence over the provisions in the service information.

Costs of Compliance

We estimate that this proposed AD would affect 1,400 airplanes in the U.S. registry, including those airplanes affected by AD 82-07-04.

We estimate the following costs to do the proposed modification:

Labor cost | Parts cost | Total cost per airplane | Total cost on U.S. operators
2.5 work-hours × $80 per hour = $200 | $500 | $700 | $980,000

We based our fleet cost estimate on all airplanes needing the modification. We have no way of knowing which airplanes already have modified the fuel shut-off control per AD 82-07-04. We also have no way of knowing how many airplanes have been retrofitted with the Gemini fuel shut-off valve part number 3/4-86-6-RT-6 (A3580-1) without incorporating AD 82-07-04.

The estimated total cost on U.S. operators includes the cumulative costs associated with those airplanes affected by AD 82-07-04 and those airplanes being added in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 82-07-04, Amendment 39-4355 (47 FR 13788, April 1, 1982), and adding the following new AD:

Allied Ag Cat Productions, Inc. (Type Certificate No. 1A16 formerly held by Schweizer Aircraft Corp.): Docket No. FAA-2007-27860; Directorate Identifier 2007-CE-034-AD.

Comments Due Date

(a) We must receive comments on this airworthiness directive (AD) action by July 16, 2007.

Affected ADs

(b) This AD supersedes AD 82-07-04, Amendment 39-4355.

Applicability

(c) This AD applies to the following model and serial number airplanes that are certificated in any category and have Gemini fuel shut-off valve part number (P/N) ¾-86-6-RT-6 (A3580-1) installed:

(1) Group 1 (maintains the actions from AD 82-07-04):

Model | Serial Nos
(i) G-164A | 1726A through 1730A.
(ii) G-164B | 335B through 659B.
(iii) G-164C | 1C through 44C.
(iv) G-164D | 1D through 22D.

.

(2) Group 2:

Model | Serial Nos.
(i) G-164 | All.
(ii) G-164A | All except 1726A through 1730A.
(iii) G-164B and G-164B with 73″ wing gap | All except 335B through 659B.
(iv) G-164B-15T | All.
(v) G-164B-20T | All.
(vi) G-164B-34T | All.
(vii) G-164C | All except 1C through 44C.
(iv) G-164D and G-164D with 73″ wing gap | All except 1D through 22D.

Unsafe Condition

(d) This AD results from our determination to add airplane models and serial numbers that were not previously included in the applicability. We are issuing this AD to prevent turning the fuel shut-off valve clockwise past the “ON” position which, if not corrected, could allow the fuel valve to be rotated to an unplacarded “OFF” position.

Compliance

(e) To address this problem, you must do the following, unless already done:

Actions | Compliance | Procedures
(1) Modify the fuel shut-off valve control by installation of a new stop-plate, P/N A1552-71 (or FAA-approved equivalent) | (i) For Group 1 Airplanes: Within 100 hours time-in service (TIS) after April 6, 1982 (the effective date of AD 82-07-04) | Follow Schweizer Aircraft Corp. Ag-Cat Service Bulletin No. 78, dated January 26, 1982.
| (ii) For Group 2 Airplanes: Within 100 hours TIS after the effective date of this AD
(2) Do not install any Gemini fuel shut-off valve P/N ¾-86-6-RT-6 (A3580-1) on any airplane unless the stop-plate is installed per paragraph (e)(1) of this AD | For all Airplanes: As of 100 hours TIS after the effective date of this AD | Follow Schweizer Aircraft Corp. Ag-Cat Service Bulletin No. 78, dated January 26, 1982.

Alternative Methods of Compliance (AMOCs)

(f) The Manager, Fort Worth Airplane Certification Office, FAA, has the authority to approve AMOCs for this AD, if requested using the procedures found in 14 CFR 39.19. Send information to ATTN: Matt Wilbanks, Aerospace Engineer, 2601 Meacham Blvd., Fort Worth, Texas 76137; telephone: (817) 222-5051; fax: (817) 222-5960. Before using any approved AMOC on any airplane to which the AMOC applies, notify your appropriate principal inspector (PI) in the FAA Flight Standards District Office (FSDO), or lacking a PI, your local FSDO.

(g) AMOCs approved for AD 82-07-04 are approved for this AD.

Related Information

(h) To get copies of the service information referenced in this AD, contact Allied Ag Cat Productions, Inc., 301 West Walnut Street, P.O. Box 482, Walnut Ridge, Arkansas 72479; telephone: (870) 866-2111. To view the AD docket, go to the Docket Management Facility; U.S. Department of Transportation, 400 Seventh Street, SW., Nassif Building, Room PL-401, Washington, DC, or on the Internet at http://dms.dot.gov. The docket number is Docket No. FAA-2007-27860; Directorate Identifier 2007-CE-034-AD.

Issued in Kansas City, Missouri, on May 9, 2007.
Charles L. Smalley,
Acting Manager, Small Airplane Directorate, Aircraft Certification Service.

[FR Doc. E7-9402 Filed 5-15-07; 8:45 am]

BILLING CODE 4910-13-P